DEPARTMENT OF DEFENSE

Department of the Army

Notice of Request for Information on Technologies to Support Operations in the Information Environment

AGENCY: Department of the Army, DoD.

ACTION: Notice; registration website available.

SUMMARY: The notice for Request for Information on Technologies to Support Operations in the Information Environment published in the Federal Register on Wednesday, May 23, 2018, did not request participants to register online. This notice publicizes the registration website: http://www.cvent.com/d/mgqsvs.

FOR FURTHER INFORMATION CONTACT: Elizabeth K. Bowman, Telephone (410) 278-55924.

Brenda S. Bowen,
Army Federal Register Liaison Officer.

[FR Doc. 2018-13226 Filed 6-19-18; 8:45 am]

BILLING CODE 5001-03-P